INTERNATIONAL TRADE COMMISSION

[Inv. No. 337-TA-1273]

Certain Residential Premises Security Monitoring and Automation Control Panels, and Components Thereof; Correction Notice of Institution of Investigation

AGENCY: U.S. International Trade Commission.

ACTION: Correction of notice.

Correction is made to notice 82 FR 42879, which was published on August 5, 2021. The notice erroneously does not state that the Office of Unfair Import Investigations is a party to the investigation. The notice should read:

(3) For the purpose of the investigation so instituted, the following are hereby named as parties upon which this notice of investigation shall be served: . . . (c) The Office of Unfair Import Investigations, U.S. International Trade Commission, 500 E Street SW, Suite 401, Washington, DC 20436; and . . .

Issued: December 30, 2021.
William Bishop,
Supervisory Hearings and Information Officer.

[FR Doc. 2021-28549 Filed 1-4-22; 8:45 am]

BILLING CODE 7020-02-P